DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 9, 2010.
Roy E. Wright,
Deputy Associate Administrator for Mitigation, Department of Homeland Security, Federal Emergency Management Agency.

State and county | Location and case No. | Chief executive officer of community | Community map repository | Effective date of modification | Community No.
Massachusetts: Middlesex (FEMA Docket No.: B-1422) | Town of Holliston (13-01-2122P) | The Honorable Kevin Conley, Chairman, Town of Holliston Board of Selectmen, 703 Washington Street, Holliston, MA 01746 | Town Hall, 703 Washington Street, Holliston, MA 01746 | Sept. 17, 2014 | 250195
Oklahoma: Garvin (FEMA Docket No.: B-1422) | City of Pauls Valley (13-06-3636P) | The Honorable Gary Alfred, Mayor, City of Pauls Valley, P.O. Box 778, Pauls Valley, OK 73075 | City Hall, 100 West Paul Avenue, Pauls Valley, OK 73075 | Aug. 29, 2014 | 400246
Oklahoma:
Oklahoma (FEMA Docket No.: B-1424) | City of Oklahoma City (12-06-2442P) | The Honorable Mick Cornett, Mayor, City of Oklahoma City, 200 North Walker Avenue, 3rd Floor, Oklahoma City, OK 73102 | 420 West Main Street, Suite 700, Oklahoma City, OK 73102 | Sept. 11, 2014 | 405378
Oklahoma (FEMA Docket No.: B-1424) | City of Oklahoma City (13-06-2471P) | The Honorable Mick Cornett, Mayor, City of Oklahoma City, 200 North Walker Avenue, 3rd Floor, Oklahoma City, OK 73102 | 420 West Main Street, Suite 700, Oklahoma City, OK 73102 | Sept. 11, 2014 | 405378
Texas:
Bexar (FEMA Docket No.: B-1422) | City of San Antonio (13-06-3484P) | The Honorable Ivy R. Taylor, Mayor, City of San Antonio, P.O. Box 839966, San Antonio, TX 78283 | Department of Public Works, Storm Water Engineering, 1901 South Alamo Street, 2nd Floor, San Antonio, TX 78204 | Aug. 25, 2014 | 480045
Bexar (FEMA Docket No.: B-1424) | Unincorporated areas of Bexar County (14-06-0469P) | The Honorable Nelson W Wolff, Bexar County Judge, Paul Elizondo Tower, 101 West Nueva Street, 10th Floor, San Antonio, TX 78205 | Bexar County Public Works Department, 233 North Pecos-La Trinidad Street, Suite 420, San Antonio, TX 78207 | Sept . 11, 2014 | 480035
Coryell (FEMA Docket No.: B-1424) | City of Copperas Cove (13-06-4315P) | The Honorable John Hull, Mayor, City of Copperas Cove, 914 South Main Street, Suite E, Copperas Cove, TX 76522 | 914 South Main Street, Suite G, Copperas Cove, TX 76522 | Sept. 15, 2014 | 480155
Dallas (FEMA Docket No.: B-1432) | City of Coppell (13-06-3463P) | The Honorable Karen Hunt, Mayor, City of Coppell, P.O. Box 9478, Coppell, TX 75019 | Engineering Department, 255 Parkway Boulevard, Coppell, TX 75019 | Sept. 15, 2014 | 480170
Dallas (FEMA Docket No.: B-1422) | City of Garland (13-06-4174P) | The Honorable Douglas Athas, Mayor, City of Garland, 200 North 5th Street, Garland, TX 75040 | 800 Main Street, Garland, TX 75040 | Sept. 5, 2014 | 485471
Dallas (FEMA Docket No.: B-1422) | City of Sachse (13-06-4174P) | The Honorable Mike Felix, Mayor, City of Sachse, 3815 Sachse Road, Building B, Sachse, TX 75048 | 3815 Sachse Road, Building B, Sachse, TX 75048 | Sept. 5, 2014 | 480186
Denton (FEMA Docket No.: B-1422) | City of Celina (13-06-4215P) | The Honorable Sean Terry, Mayor, City of Celina, 142 North Ohio Street, Celina, TX 75009 | City Hall, 142 North Ohio Street, Celina, TX 75009 | Sept. 2, 2014 | 480133
Denton (FEMA Docket No.: B-1424) | City of Denton (13-06-3379P) | The Honorable Chris Watts, Mayor, City of Denton, 215 East McKinney Street, Denton, TX 76201 | 901-A Texas Street, Denton, TX 76209 | Sept. 15, 2014 | 480194
Denton (FEMA Docket No.: B-1422) | City of Denton (14-06-0807P) | The Honorable Chris Watts, Mayor, City of Denton, 215 East McKinney Street, Denton, TX 76201 | 901-A Texas Street, Denton, TX 76209 | Sept. 22, 2014 | 480194
Denton (FEMA Docket No.: B-1422) | City of Frisco (14-06-0032P) | The Honorable Maher Maso, Mayor, City of Frisco, 6101 Frisco Square Boulevard, Frisco, TX 75034 | City Hall, 6101 Frisco Square Boulevard, Frisco, TX 75034 | Aug. 25, 2014 | 480134
Denton (FEMA Docket No.: B-1422) | Unincorporated areas of Denton County (13-06-4215P) | The Honorable Mary Horn, Denton County Judge, 110 West Hickory Street, 2nd Floor, Denton, TX 76201 | Denton County Government Center, 1505 East McKinney Street, Suite 175, Denton, TX 76209 | Sept. 2, 2014 | 480774
Denton (FEMA Docket No.: B-1424) | Unincorporated areas of Denton County (13-06-3783P) | The Honorable Mary Horn, Denton County Judge, 110 West Hickory Street, 2nd Floor, Denton, TX 76201 | Denton County Government Center, 1505 East McKinney Street, Suite 175, Denton, TX 76209 | Sept. 15, 2014 | 480774
Denton (FEMA Docket No.: B-1422) | Unincorporated areas of Denton County (14-06-0807P) | The Honorable Mary Horn, Denton County Judge, 110 West Hickory Street, 2nd Floor, Denton, TX 76201 | Denton County Government Center, 1505 East McKinney Street, Suite 175, Denton, TX 76209 | Sept. 22, 2014 | 480774
Guadalupe (FEMA Docket No.: B-1422) | City of Cibolo (13-06-4035P) | The Honorable Lisa M. Jackson, Mayor, City of Cibolo, 200 South Main Street, Cibolo, TX 78108 | City Hall, 200 South Main Street, Cibolo, TX 78108 | Sept. 3, 2014 | 480267
Guadalupe (FEMA Docket No.: B-1422) | Unincorporated areas of Guadalupe County (13-06-4035P) | The Honorable Larry Jones, Guadalupe County Judge, 211 West Court Street, Seguin, TX 78155 | Guadalupe County, 2605 North Guadalupe Street, Seguin, TX 78155 | Sept. 3, 2014 | 480266
Harris (FEMA Docket No.: B-1422) | City of Houston (13-06-2759P) | The Honorable Annise D. Parker, Mayor, City of Houston, P.O. Box 1562, Houston, TX 77251 | Public Works and Engineering Department, 611 Walker Street, Houston, TX 77002 | Sept. 15, 2014 | 480296
Harris (FEMA Docket No.: B-1422) | Unincorporated areas of Harris County (13-06-2759P) | The Honorable Ed M. Emmett, Harris County Judge, 1001 Preston Street, Suite 911, Houston, TX 77002 | Harris County Permits Office, 10555 Northwest Freeway, Suite 120, Houston, TX 77092 | Sept 15, 2014 | 480287
Harris (FEMA Docket No.: B-1424) | Unincorporated areas of Harris County (14-06-0575P) | The Honorable Ed M. Emmett, Harris County Judge, 1001 Preston Street, Suite 911, Houston, TX 77002 | Harris County Permits Office, 10555 Northwest Freeway, Suite 120, Houston, TX 77092 | Sept. 15, 2014 | 480287
Harris (FEMA Docket No.: B-1422) | Unincorporated areas of Harris County (14-06-1079P) | The Honorable Ed M. Emmett, Harris County Judge, 1001 Preston Street, Suite 911, Houston, TX 77002 | Harris County Permits Office, 10555 Northwest Freeway, Suite 120, Houston, TX 77092 | Sept. 15, 2014 | 480287
Lampasas (FEMA Docket No.: B-1437) | Unincorporated areas of Lampasas County (13-06-4315P) | The Honorable Wayne L. Boultinghouse, Lampasas County Judge, P.O. Box 231, Lampasas, TX 76550 | Lampasas County Courthouse, 501 East 4th Street, Lampasas, TX 76550 | Sept. 15, 2014 | 480899
Rockwall (FEMA Docket No.: B-1424) | City of Rockwall (14-06-0263P) | The Honorable David Sweet, Mayor, City of Rockwall, 385 South Goliad Street, Rockwall, TX 75087 | City Hall, 385 South Goliad Street, Rockwall, TX 75087 | Aug. 29, 2014 | 480547
Tarrant (FEMA Docket No.: B-1432) | City of Fort Worth (13-06-3819P) | The Honorable Betsy Price, Mayor, City of Fort Worth, 1000 Throckmorton Street, Fort Worth, TX 76102 | Department of Transportation and Public Works, 1000 Throckmorton Street, Fort Worth, TX 76102 | Sept. 29, 2014 | 480596
Tarrant (FEMA Docket No.: B-1424) | City of Haslet (13-06-4452P) | The Honorable Bob Golden, Mayor, City of Haslet, 101 Main Street, Haslet, TX 76052 | City Hall, 101 Main Street, Haslet, TX 76052 | Sept. 4, 2014 | 480600
Terrell (FEMA Docket No.: B-1422) | Unincorporated areas of Terrell County (13-06-3003P) | The Honorable Santiago Flores, Terrell County Judge, 105 East Hackberry Street, Sanderson, TX 79848 | Terrell County Courthouse, County Clerk's Office, 105 East Hackberry Street, Sanderson, TX 79848 | Sept. 26, 2014 | 480619
Travis (FEMA Docket No.: B-1432) | City of Austin (14-06-0251P) | The Honorable Lee Leffingwell, Mayor, City of Austin, P.O. Box 1088, Austin, TX 78767 | Stormwater Management Division, 505 Barton Springs Road, Suite 908, Austin, TX 78704 | Sept. 9, 2014 | 480624
Virginia:
Albemarle (FEMA Docket No.: B-1424) | Unincorporated areas of Albemarle County (14-03-0863P) | Mr. Thomas Foley, Albemarle County Executive, 401 McIntire Road, Charlottesville, VA 22902 | Albemarle County Department of Community Development, 401 McIntire Road, Charlottesville, VA 22902 | Sept. 24, 2014 | 510006
Charlottesville (FEMA Docket No.: B-1424) | Independent City of Charlottesville (14-03-0863P) | The Honorable Satyendra Huja, Mayor, City of Charlottesville, P.O. Box 911, Charlottesville, VA 22902 | City Hall, Neighborhood Development Department, 610 East Market Street, Charlottesville, VA 22902 | Sept. 24, 2014 | 510033

[FR Doc. 2014-25151 Filed 10-21-14; 8:45 am]

BILLING CODE 9110-12-P